SMALL BUSINESS ADMINISTRATION

[Declaration of Disaster #3340; Amendment #1]

Commonwealth of Puerto Rico

In accordance with a notice received from the Federal Emergency Management Agency, dated May 17, 2001, the above-numbered Declaration is hereby amended to include the municipalities of Adjuntas, Rincon and Sabana Grande in the Commonwealth of Puerto Rico as disaster areas caused by severe storms, flooding and mudslides beginning on May 6, 2001 and continuing.

In addition, applications for economic injury loans from small businesses located in the municipalities of Aguada, Anasco, Ponce and Utuado in the Commonwealth of Puerto Rico may be filed until the specified date at the previously designated location. Any municipalities contiguous to the above named primary municipalities and not listed here have been previously declared.

All other information remains the same, i.e., the deadline for filing applications for physical damage is July 15, 2001 and for economic injury the deadline is February 15, 2002.

(Catalog of Federal Domestic Assistance Program Nos. 59002 and 59008)
Dated: May 21, 2001.
Herbert L. Mitchell,
Associate Administrator for Disaster Assistance.

[FR Doc. 01-13232 Filed 5-24-01; 8:45 am]

BILLING CODE 8025-01-P